DEPARTMENT OF AGRICULTURE

Agricultural Marketing Service

7 CFR Part 1216

[Doc. No. AMS-SC-23-0060]

Peanut Promotion, Research, and Information Order; Continuance Referendum

AGENCY: Agricultural Marketing Service, USDA.

ACTION: Notification of referendum.

SUMMARY: This document directs that a referendum be conducted among eligible producers of peanuts to determine whether they favor continuance of the Agriculture Marketing Service's (AMS) regulations regarding a national peanut research and promotion program.

DATES: This referendum will be conducted from April 8, 2024, through April 19, 2024. Eligible persons will receive a ballot through mail and will cast a ballot either through express mail or electronic ballot. To be eligible to vote, each person who is an eligible producer, at the time of the referendum and during the representative period from January 1 through December 31, 2022, shall be entitled to cast a ballot in the referendum. Ballots delivered to AMS via express mail or electronic ballot must show proof of delivery by no later than 11:59 p.m. Eastern Time (ET) on April 19, 2024, to be counted.

ADDRESSES: Copies of the Peanut Promotion, Research, and Information Order (Order) may be obtained from: Referendum Agent, Market Development Division, Specialty Crops Program, AMS, USDA, 1400 Independence Avenue SW, Room 1406-S, Stop 0244, Washington, DC 20250-0244, Telephone: (202) 720-8085; or contact Victoria M. Carpenter at (202) 400-1865 or Email: VictoriaM.Carpenter@usda.gov or Deanna Bakken at (970) 652-0923 or Email: Deanna.Bakken@usda.gov.

FOR FURTHER INFORMATION CONTACT: Victoria M. Carpenter, Marketing Specialist, MDD, SCP, AMS, USDA, 1400 Independence Avenue SW, Room 1406-S, Stop 0244, Washington, DC 20250-0244; Telephone: (202) 400-1865; or Email: VictoriaM.Carpenter@usda.gov.

SUPPLEMENTARY INFORMATION: Pursuant to the Commodity Promotion, Research and Information Act of 1996 (7 U.S.C. 7411-7425) (Act), it is hereby directed that a referendum be conducted to ascertain whether continuance of the Order (7 CFR part 1216) is favored by eligible peanut producers covered under the program. The Order is authorized under the Act.

The representative period for establishing voter eligibility for the referendum is January 1 through December 31, 2022. Persons who are engaged in the production and sale of peanuts at the time of the referendum and during the representative period are eligible to vote. Persons who received an exemption from assessments pursuant to § 1216.56 for the entire representative period are ineligible to vote. AMS will provide the option for electronic balloting. The referendum will be conducted by mail and electronic ballot from April 8, 2024, through April 19, 2024. Further details will be provided in the ballot instructions.

Section 518 of the Act authorizes continuance referenda. Under § 1216.82(b) of the Order, the U.S. Department of Agriculture (USDA) must conduct a referendum every five years. The Secretary of Agriculture (Secretary) may also hold a referendum if 10 percent or more of all eligible peanut producers request that the Secretary do so, or at any time to determine whether persons subject to assessment favor continuance of the program. The last referendum was held in 2019. The Board voted to conduct the next referendum in April 2024. USDA would continue the Order if continuance is favored by a simple majority of the producers voting in the referendum and who, during the representative period January 1 through December 31, 2022, have been engaged in the production of peanuts.

In accordance with the Paperwork Reduction Act of 1995 (44 U.S.C. chapter 35), the referendum ballot has been approved by the Office of Management and Budget (OMB) and assigned OMB No. 0581-0093. There are approximately 6,702 producers who will be eligible to vote in the referendum. It will take an average of 15 minutes for each voter to read the voting instructions and complete the referendum ballot.

Referendum Order

Victoria M. Carpenter, Marketing Specialist; Deanna Bakken, Marketing Specialist; and Alexandra Caryl, Branch Chief, Market Development Division, SCP, AMS, USDA, Stop 0244, Room 1406-S, 1400 Independence Avenue SW, Washington, DC 20250-0244, are designated as the referendum agents to conduct this referendum. The referendum procedures at 7 CFR 1216.100 through 1216.107, which were issued pursuant to the Act, shall be used to conduct the referendum.

The referendum agent will mail or provide access electronically to the ballots to be cast in the referendum and voting instructions to all known, eligible producers prior to the first day of the voting period. Any eligible producer who does not receive a ballot should contact the referendum agent no later than three days before the end of the voting period. Ballots delivered via express mail or electronic ballot must show proof of delivery by no later than 11:59 p.m. ET on April 19, 2024, to be counted.

List of Subjects in 7 CFR Part 1216

Administrative practice and procedure, Advertising, Information, Marketing agreements, Peanuts, Reporting and recordkeeping requirements.

Authority: 7 U.S.C. 7411-7425; 7 U.S.C. 7401.

Erin Morris,
Associate Administrator, Agriculture Marketing Service.

[FR Doc. 2024-03371 Filed 2-16-24; 8:45 am]

BILLING CODE 3410-02-P